ENVIRONMENTAL PROTECTION AGENCY

[FRL-6971-8]

Draft Public Involvement Policy—Extension of Public Comment Period and Announcement of Public Dialogue

AGENCY: Environmental Protection Agency (EPA).

ACTION: Notice; extension of public comment period and announcement of public dialogue.

SUMMARY: The Environmental Protection Agency published its draft Public Involvement Policy on December 28, 2000 and requested public comments through April 27, 2001 (65 FR 82335, Dec. 28, 2000). EPA now extends this public comment period through July 31, 2001. This extension will allow the agency to convene an on-line public dialogue on the draft Public Involvement Policy. This dialogue, which will be an interactive discussion on the Internet, will provide additional opportunities for the public to provide feedback on issues relating to the draft policy. The dialogue will be held during two weeks in the summer of 2001 and will be announced on the EPA web page at http://www.epa.gov/stakeholders. To request direct e-mail notification of the dialogue, send a message to: stakeholders@epa.gov. The draft policy is posted on the web at http://www.epa.gov/stakeholders/policy.htm. EPA's Office of Policy, Economics and Innovation will maintain all public comments on the draft Public Involvement Policy in a docket that is available to the public. In addition, EPA may post all comments on the Internet, unless commenters request otherwise.

DATES: Comments will be accepted until July 31, 2001. The on-line dialogue will be held in June or July, 2001.

ADDRESSES: Submit comments to Patricia A. Bonner, United States Environmental Protection Agency, Office of Policy, Economics and Innovation (MC 1807), 1200 Pennsylvania Ave, NW., Washington, DC 20460, by facsimile to 202-260-4903, or by electronic mail to: stakeholders@epa.gov.

FOR FURTHER INFORMATION CONTACT: Patricia Bonner at 202-260-0599 or bonner.patricia@epa.gov.

Jay Benforado,
Principal Deputy Associate Administrator, Office of Policy, Economics and Innovation.

[FR Doc. 01-10807 Filed 4-30-01; 8:45 am]

BILLING CODE 6560-50-P